FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011712-001.

Title: CMA CGM/CSG Exchange Sailing and Cooperative Working Agreement.

Parties: China Container Shipping Lines Co. Ltd. CMA CGM, S.A.

Synopsis: The amendment revises the number and size of the vessels utilized, increases the amount of space exchanged, and modifies resignation and termination procedures.

Agreement No.: 011737-003.

Title: The MCA Agreement.

Parties: Antillean Marine Shipping Corporation Crowley Liner Services, Inc. CMA CGM, S.A. Far Eastern Shipping Company King Ocean Central America S.A. King Ocean Service De Colombia S.A. King Ocean Service De Venezuela S.A. Mexican Line Limited, LLC Lykes Lines Limited, LLC Tecmarine Lines, Inc. Tropical Shipping & Construction Co., Ltd. Alianca Navegacao E. Logistica Ltda. Hamburg-Sud.

Synopsis: The proposed amendment adds Antillean Marine Shipping Corporation, Far Eastern Shipping Company, King Ocean Central America S.A., King Ocean Service De Colombia S.A., and King Ocean Service De Venezuela S.A. as parties to the agreement. The amendment also deletes Cho Yang Shipping Co., Ltd. and Compania Chilena De Navegacion Interoceanica S.A. as parties to the agreement.

Agreement No.: 11780.

Title: Maersk Sealand/MSC Slot Charter Agreement.

Parties: A.P. Moller-Maersk Sealand Mediterranean Shipping Company.

Synopsis: The proposed agreement authorizes Maersk Sealand to charter slots on MSC ships operating between the U.S. East Coast and Northern Europe until January 31, 2002. The parties request expedited review.

Agreement No.: 011781.

Title: HJS/K-Line Slot Allocation & Sailing Agreement.

Parties: Hanjin Shipping Co., Ltd. Kawasaki Kisen Kaisha, Ltd.

Synopsis: The proposed agreement authorizes the parties to sell and purchase slots to and from each other in the trade between Asia and the United States Pacific Coast.

By Order of the Federal Maritime Commission.
Dated: November 9, 2001.
Theodore A. Zook,
Assistant Secretary.

[FR Doc. 01-28669 Filed 11-14-01; 8:45 am]

BILLING CODE 6730-01-P